ENVIRONMENTAL PROTECTION AGENCY

[EPA-HQ-OPP-2005-0494; FRL-8865-9]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to section 6(f)(1) of the Federal Insecticide, Fungicide, and Rodenticide Act (FIFRA), as amended. This cancellation order follows a July 28, 2010, Federal Register Notice of Receipt of Requests from the registrants listed in Table 2 of Unit II. to voluntarily cancel these product registrations. In the July 28, 2010, notice, EPA indicated that it would issue an order implementing the cancellations, unless the Agency received substantive comments within the 30-day comment period that would merit its further review of these requests, or unless the registrants withdrew their requests. The Agency received a comment on the notice but it did not merit further review of the requests. Further, the registrants did not withdraw their requests. Accordingly, EPA hereby issues in this notice a cancellation order granting the requested cancellations. Any distribution, sale, or use of the products subject to this cancellation order is permitted only in accordance with the terms of this order, including any existing stocks provisions.

DATES: The cancellations are effective March 23, 2011.

FOR FURTHER INFORMATION CONTACT: Veronica Dutch, Pesticide Re-evaluation Division (7508P), Office of Pesticide Programs, Environmental Protection Agency, 1200 Pennsylvania Ave., NW., Washington, DC 20460-0001; telephone number: (703) 308-8585; fax number: (703) 308-8090; e-mail address: dutch.veronica@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How can I get copies of this document and other related information?

EPA has established a docket for this action under docket identification (ID) number EPA-HQ-OPP-2005-0494. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday thru Friday, excluding legal holidays. The Docket Facility telephone number is (703) 305-5805.

II. What action is the agency taking?

This notice announces the cancellation, as requested by registrants, of products registered under FIFRA section 3. These registrations are listed in sequence by registration number in Table 1 of this unit.

Table 1—Product Cancellations
EPA registration No. | Product name | Chemical name
000004-00017 | Rotenone 1.0% Dust | Cube Resins other than rotenone. Rotenone.
000004-00224 | Rotenone 5% Insect Control | Cube Resins other than rotenone. Rotenone.
000004-00315 | Bonide Liquid Rotenone/Pyrethrins Spray | Cube Resins other than rotenone. Rotenone.
000004-00404 | Bonide Garden Rotenone Dust | Rotenone Cube Resins other than rotenone.
000004-00423 | Bonide Rotenone Garden Dust or Spray | Cube Resins other than rotenone. Rotenone.
000270-00275 | Equi-Dust | Pyrethrins Cube Resins other than rotenone. Rotenone.
000769-00414 | Powdered Cube | Rotenone Piperonyl butoxide. Pyrethrins.
000769-00857 | Science Red Arrow Insect Spray | Piperonyl butoxide. Pyrethrins Cube Resins other than rotenone. Rotenone.
000869-00186 | Green Light Rotenone | Cube Resins other than rotenone. Rotenone.
002217-00145 | Garden Protector | Rotenone Cube Resins other than rotenone.
008660-00050 | 1% Rotenone Garden Dust | Rotenone Cube Resins other than rotenone.
028293-00042 | Unicorn Ear Mite Control | Cube Resins other than rotenone. Rotenone.
030573-00002 | Pyrellin E.C. | Pyrethrins Rotenone Cube Resins other than rotenone.
033955-00270 | Acme 1% Rotenone Garden Guard | Rotenone Cube Resins other than rotenone.
034911-00021 | Hi-Yield Rotenone 100 Insecticide Dust | Rotenone.
047000-00026 | Pet Dust | Cube Resins other than rotenone. Rotenone.

Table 2 of this unit includes the names and addresses of record for all registrants of the products in Table 1 of this unit, in sequence by EPA company number. This number corresponds to the first part of the EPA registration numbers of the products listed in Table 1 of this unit.

Table 2—Registrants of Canceled Products
EPA company No. | Company name and address
4 | Bonide Products, Inc., P.O. Box 1019, Salem, VA 24153-3805.
270 | Farnam Companies, Inc., 301 West Osborn Road, Phoenix, AZ 85013.
769 | Value Gardens Supply, LLC, P.O. Box 585, Saint Joseph, MO 64502.
869 | Green Light Company, 1600 Riviera Avenue, Suite 200, Walnut Creek, CA 94596.
2217 | PBI/Gordon Corp., 1217 West 12TH Street, P.O. Box 014090 Kansas City, MO 64101-0090.
8660 | United Industries Corporation, P.O. Box 142642, St. Louis, MO 63114-0642.
28293 | Phaeton Corporation, P.O. Box 1019, Salem, VA 24153.
73305 | Wright Webb Corporation, P.O. Box 1572, Fort Myers, FL 33902.
33955 | PBI/Gordon Corp, 1217 West 12th Street, P.O. Box 014090, Kansas City, MO 64101-0090.
34911 | Hi-Yield Chemical Company, 6860 N. Dallas Pkwy., Suite 200, Plano, TX 75024.
47000 | Chem-Tech, LTD., 4515 Fleur Dr. #303, Des Moines, IA 50321.

III. Summary of Public Comments Received and Agency Response to Comments

During the public comment period provided, EPA received no comments of merit in response to the July 28, 2010, Federal Register notice announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II. are canceled. The effective date of the cancellations that are subject of this notice is the date of publication of this cancellation order in the Federal Register. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register.

Thereafter, following the public comment period, the EPA Administrator may approve such a request. The notice of receipt for this action was published for comment in the Federal Register of July 28, 2010, (75 FR 44256) (FRL-8831-7). The comment period closed on August 27, 2010.

VI. Provisions for Disposition of Existing Stocks

Existing stocks are those stocks of registered pesticide products which are currently in the United States and which were packaged, labeled, and released for shipment prior to the effective date of the cancellation action. The existing stocks provisions for the products subject to this order are as follows.

Because the Agency has potential risk concerns associated with these pesticide products identified in Table 1 of Unit II., EPA will allow registrants to sell and distribute existing stocks of these products until May 2011. Thereafter, registrants will be prohibited from selling or distributing the pesticides identified in Table 1 of Unit II., except for export consistent with FIFRA section 17 or for proper disposal. Persons other than registrants may sell, distribute, or use existing stocks of products listed in Table 1 of Unit II. until May 2011.

List of Subjects

Environmental protection, Pesticides and pests.

Dated: March 14, 2011.
Richard P. Keigwin, Jr.,
Director, Pesticide Re-Evaluation Division, Office of Pesticide Programs.

[FR Doc. 2011-6544 Filed 3-22-11; 8:45 am]

BILLING CODE 6560-50-P